NUCLEAR REGULATORY COMMISSION

[NRC-2011-0039]

Notice of Availability of the Proposed Models for Plant-Specific Adoption of Technical Specifications Task Force (TSTF) Traveler TSTF-423, Revision 1, “Technical Specifications End States, NEDC-32988-A,” for Boiling Water Reactor Plants Using the Consolidated Line Item Improvement Process

AGENCY: Nuclear Regulatory Commission (NRC).

ACTION: Notice of Availability.

SUMMARY: The NRC is announcing the availability of the model application (with model no significant hazards consideration (NSHC) determination) and model safety evaluation (SE) for plant-specific adoption of Technical Specifications Task Force (TSTF) Traveler TSTF-423, Revision 1, “Technical Specifications End States, NEDC-32988-A,” for boiling water reactor (BWR) plants using the consolidated line item improvement process (CLIIP). TSTF-423, Revision 1, is available in the Agencywide Documents Access and Management System (ADAMS) under Accession Number ML093570241. The changes in TSTF-423, Revision 1, modify every Required Action with the preferred end state with addition of a Note prohibiting the use of the provisions of limiting condition for operation (LCO) 3.0.4.a to enter the end state Mode within the Applicability during startup. The Bases of each Required Action is revised to describe the Note. Additionally, this revision to TSTF-423 removes the proposed changes to Technical Specification (TS) 3.6.1.1, “Primary Containment.” This model SE will facilitate expedited approval of plant-specific adoption of TSTF-423, Revision 1. Please note, this notice of availability (NOA) supersedes in its entirety the NOA for TSTF-423, Revision 0, published in the Federal Register on March 23, 2006 (71 FR 14726-14745, ADAMS Accession Number ML060760206).

You can access publicly available documents related to this notice using the following methods:

NRC's Public Document Room (PDR): The public may examine and have copied, for a fee, publicly available documents at the NRC's PDR, Public File Area O1 F21, One White Flint North, 11555 Rockville Pike, Rockville, Maryland.

NRC's Agencywide Documents Access and Management System (ADAMS): Publicly available documents created or received at the NRC are available electronically at the NRC's Electronic Reading Room at http://www.nrc.gov/reading-rm/adams.html. From this page, the public can gain entry into the ADAMS, which provides text and image files of NRC's public documents. If you do not have access to the ADAMS, or if there are problems in accessing the documents located in the ADAMS, contact the NRC's PDR reference staff at 1-800-397-4209, 301-415-4737, or by e-mail to pdr.resource@nrc.gov.

The model application (with model NSHC determination) and model SE for plant-specific adoption of TSTF-423, Revision 1, are available electronically under ADAMS Accession Number ML0126730688. The NRC staff disposition of comments received to the Notice of Opportunity for Public Comment announced in the Federal Register on December 14, 2005 (70 FR 74037), is available electronically under ADAMS Accession Number ML102700373.

Federal rulemaking Web site: Public comments received and supporting materials related to this notice can be found at http://www.regulations.gov by searching on Docket ID: NRC-2011-0039.

FOR FURTHER INFORMATION CONTACT: Ravinder Grover, Technical Specifications Branch, Mail Stop: O-7 C2A, Division of Inspection and Regional Support, Office of Nuclear Reactor Regulation, U.S. Nuclear Regulatory Commission, Washington, DC 20555-0001; telephone 301-415-2166 or e-mail at Ravinder.Grover@nrc.gov or Ms. Michelle C. Honcharik, Senior Project Manager, Licensing Processes Branch, Mail Stop: O-12 D1, Division of Policy and Rulemaking, Office of Nuclear Reactor Regulation, U.S. Nuclear Regulatory Commission, Washington, DC 20555-0001; telephone 301-415-1774 or e-mail at Michelle.Honcharik@nrc.gov.

SUPPLEMENTARY INFORMATION:

TSTF-423, Revision 1, is applicable to all BWR plants. Licensees opting to apply for this TS change are responsible for reviewing the NRC staff's model SE, referencing the applicable technical justifications, and providing any necessary plant-specific information. The NRC will process each amendment application responding to this NOA according to applicable NRC rules and procedures.

The proposed models do not prevent licensees from requesting an alternate approach or proposing changes other than those proposed in TSTF-423, Revision 1. However, significant deviations from the approach recommended in this notice or the inclusion of additional changes to the license require additional NRC staff review. This may increase the time and resources needed for the review or result in NRC staff rejection of the license amendment request (LAR). Licensees desiring significant deviations or additional changes should instead submit an LAR that does not claim to adopt TSTF-423, Revision 1.

Dated at Rockville, Maryland this 2nd day of February 2011.
For the Nuclear Regulatory Commission.
Melissa S. Ash,
Acting Chief, Licensing Processes Branch, Division of Policy and Rulemaking, Office of Nuclear Reactor Regulation.

[FR Doc. 2011-3718 Filed 2-17-11; 8:45 am]

BILLING CODE 7590-01-P